DEPARTMENT OF TRANSPORTATION

Coast Guard

46 CFR Parts 10 and 15

[USCG 1999-6224]

RIN 2115-AF23

Licensing and Manning for Officers of Towing Vessels

AGENCY: Coast Guard, DOT.

ACTION: Interim rule; delay of effective date.

SUMMARY: The Coast Guard is delaying the effective date of an interim rule with request for comments, published in the Federal Register on November 19, 1999 [64 FR 63213]. An extension of the effective date from November 20, 2000, to May 21, 2001, is necessary so we can make clarifications and issue guidelines for implementation of the new licenses and revised training criteria established in that interim rule, and carry on outreach.

EFFECTIVE DATE: This interim rule delays the effective date of the interim rule of November 19, 1999, from November 20, 2000, to May 21, 2001; it leaves unchanged all other requirements.

FOR FURTHER INFORMATION CONTACT: Lieutenant Commander Luke Harden, Office of Operating and Environmental Standards (G-MSO), U.S. Coast Guard, 202-267-0229. The Department of Transportation maintains the docket for this rulemaking on the web site for its Document Management System at http://dms.dot.gov. The docket number is USCG 1999-6224.

SUPPLEMENTARY INFORMATION: On November 19, 1999, the Coast Guard published an interim rule and request for comments entitled “Licensing and Manning for Officers of Towing Vessels” in the Federal Register [64 FR 63213]. The interim rule that was to become effective on November 20, 2000, established new licenses and revised training for officers of towing vessels.

Since promulgation of the interim rule, the Coast Guard has become aware that certain provisions in the rule may require clarification. The Coast Guard plans to publish clarification in a separate interim rule. To ensure that it makes clear all options, and that it gives all affected parties enough time to comply with the new and revised requirements, the Coast Guard is postponing the effective date of the interim rule of November 19, 1999, for six months. The Coast Guard considers a postponement of six months to be adequate for better implementation of the new requirements, the revised standards for training set forth in that interim rule, and outreach.

Accordingly, the effective date for the interim rule of November 19, 1999 [64 FR 63213] is changed from November 20, 2000, to May 21, 2001.

Dated: October 23, 2000.
Joseph J. Angelo,
Acting Assistant Commandant for Marine Safety and Environmental Protection.

[FR Doc. 00-27665 Filed 10-26-00; 8:45 am]

BILLING CODE 4910-15-U